DEPARTMENT OF TRANSPORTATION

Office of the Secretary

Notice of Applications for Certificates of Public Convenience and Necessity and Foreign Air Carrier Permits Filed Under Subpart B (Formerly Subpart Q) During the Week Ending May 31, 2002

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1999-6345.

Date Filed: May 30, 2002.

Due Date for Answers, Conforming Applications, or Motion to Modify Scope: June 20, 2002.

Description: Application of United Parcel Service Co., requesting renewal of its certificate authority to engage in scheduled foreign air transportation of property and mail between Miami, FL and Los Angeles, CA; via intermediate points in Colombia, Ecuador, and Panama; and the coterminal points Manaus, Brasilia, Rio Janeiro, Sao Paulo, Recife, Porto Alegre, Belem, Belo Horizonte, and Salvador, Brazil. UPS further requests the right to integrate such authority with its other certificate and exemption authority to provide foreign air transportation.

Docket Number: OST-2002-12417.

Date Filed: May 30, 2002.

Due Date for Answers, Conforming Applications, or Motion to Modify Scope: June 20, 2002.

Description: Application of Multi-Aero Inc., d/b/a Air Choice One (Multi-Aero), pursuant to 49 U.S.C. Section 41738 and Subpart B, requesting authority to operate scheduled passenger service as a commuter air carrier, as required by 14 CFR Section 204.3. Multi-Aero also seeks permission, pursuant to 14 CFR part 215, to operate under the trade name “Air Choice One”, to the extent that may be necessary.

Docket Number: OST-2002-12421.

Date Filed: May 31, 2002.

Due Date for Answers, Conforming Applications, or Motion to Modify Scope: June 21, 2002.

Description: Application of Transjet Airways AB, pursuant to 49 U.S.C. Section 41302. et seq., and Parts 211 and 302, Subpart B, requesting a foreign air carrier permit authorizing it to engage in charter foreign air transportation of persons, property, and mail between a point or points in Sweden and a point or points in the United States, pursuant to the Air Transport Services Agreement between the United States of America and the Kingdom of Sweden.

Dorothy Y. Beard,
Federal Register Liaison.

[FR Doc. 02-15143 Filed 6-14-02; 8:45 am]

BILLING CODE 4910-62-P